FEDERAL MARITIME COMMISSION

Notice of Release of the Federal Maritime Commission's FY 2017 Service Contract Inventory Analysis

AGENCY: Federal Maritime Commission.

Acting in compliance with Sec. 743 of Division C of the Consolidated Appropriations Act 2010, the Federal Maritime Commission (Commission) is publishing this notice to advise the public of the availability of its FY 2017 Service Contract Inventory Analysis. The FY 2017 Service Contract Inventory Analysis includes Background, Methodology, Agency Analysis of Contracts, Contract Services and Agency.

Objectives, and Agency Findings. This analysis was developed in accordance with guidance issued on October 17, 2016 by the Office of Management and Budget (OMB), Office of Procurement Policy (OFPP). The Federal Maritime Commission has posted its FY 2018 Service Contract Inventory Analysis at the following link: https://www.fmc.gov/about-the-fmc/governmentwide-laws-regulations/service-contract-analysis/.

DATES: The inventory is available on the Commission's website as of July 16, 2020.

FOR FURTHER INFORMATION CONTACT: Katona Bryan-Wade, Director, Office of Management Services, 202-523-5900, omsmaritime@fmc.gov.

Rachel Dickon,
Secretary.

[FR Doc. 2020-20448 Filed 9-15-20; 8:45 am]

BILLING CODE 6730-02-P